DEPARTMENT OF STATE

[Public Notice 8201]

Additional Designation of Faratech, Neda Industrial Group, Towlid Abzar Boreshi Iran, Tarh O Palayesh, Amir Hossein Rahimyar, and Mohammad Reza Rezvanianzadeh Pursuant to Executive Order 13382

AGENCY: Department of State.

ACTION: Designation of Six Iranian Entities and Individuals Pursuant to Executive Order (E.O.) 13382.

SUMMARY: Pursuant to the authority in section 1(ii) of Executive Order 13382, “Blocking Property of Weapons of Mass Destruction Proliferators and Their Supporters”, the State Department, in consultation with the Secretary of the Treasury and the Attorney General, has determined that Faratech, Neda Industrial Group, Towlid Abzar Boreshi Iran, Tarh O Palayesh, Amir Hossein Rahimyar, and Mohammad Reza Rezvanianzadeh have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern.

DATES: The designation by the Acting Under Secretary of State for Arms Control and International Security of the entity identified in this notice pursuant to Executive Order 13382 is effective on December 13, 2012.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery, including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designee is as follows:

FARATECH

AKA: Faratech Company

Location: Ghezelbash 15, Tohid St., Isfahan, Iran.

NEDA INDUSTRIAL GROUP

Location: Address Number 10 & 12, 64th Street, Yousef Abad Avenue, Tehran, Iran.

TOWLID ABZAR BORESHI IRAN

AKA: TABA

AKA: TABA Company

AKA: Iran Cutting Tools Company

Location: Northwest of Karaj at Km 55 Qazvin (alt. Ghazvin) Highway, Haljerd, Iran

Location: No. 66 Sarhang Sakhaei St., Hafez Avenue, Tehran, Iran

TARH O PALAYESH

Location: Tehran, Iran

AMIR HOSSEIN RAHIMYAR

Address: #15, Golestan Alley, Baradaran Shahid Rahimi St, Imam Khomeini Ave, Lavasan, Tehran, Iran.

DOB: January 31, 1974

POB: Tehran, Iran

MOHAMMAD REZA REZVANIANZADEH

DOB: December 11, 1969

National ID: 118-984105-3

Dated: December 12, 2012.
Rose Gottemoeller,
Acting Under Secretary for Arms Control and International Security, Department of State.

[FR Doc. 2013-04477 Filed 2-25-13; 8:45 am]

BILLING CODE 4710-27-P